DEPARTMENT OF JUSTICE

Antitrust Division

Notice Pursuant to the National Cooperative Research and Production Act of 1993—Naval Surface Technology & Innovation Consortium

Notice is hereby given that, on January 9, 2024, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, 3D Systems, Inc., Littleton, CO; Aunautic Technologies, National City, CA; Bowhead Avionics Manufacturing LLC, Plano, TX, CoAspire LLC, Fairfax, VA; DTCUBED LLC, Sewell, NJ; Emelody Worldwide, Inc., Peachtree Corners, GA; G3 Technologies, Columbia, MD; GoHypersonic Incorporated, Dayton, OH; KCG Engineering Group, Inc., Virginia Beach, VA; L3Harris Interstate Electronics Corporation, Anaheim, CA; Nikira Labs, Inc., Mountain View, CA; Signature Science LLC, Austin, TX; Strategy Robot, Inc., Pittsburg, PA; Team Corporation, Burlington, WA; Teledyne FLIR Detection, Stillwater, OK; The Ross Group Construction Corporation LLC, Tulsa, OK; Torch Technologies, Huntsville, AL; and Xona Space Systems, Burlingame, CA, have been added as parties to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on October 11, 2023. A notice was published in the Federal Register pursuant to Section 6(b) of the Act on December 15, 2023 (88 FR 86934).

Suzanne Morris,
Deputy Director Civil Enforcement Operations, Antitrust Division.

[FR Doc. 2024-05316 Filed 3-12-24; 8:45 am]

BILLING CODE P